DEPARTMENT OF JUSTICE

Antitrust Division

Notice Pursuant to the National Cooperative Research and Production Act of 1993—National Armaments Consortium

Notice is hereby given that, on May 6, 2024, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Olson Custom Designs, Indianapolis, IN; 1Aardvark LLC, Chantilly, VA; Aerospace Business Development Associates, Inc., Fairborn, OH; Airtonics, Tucson, AZ; Alkemix Corp., Laguna Hills, CA; ApolloTech MSI CORP, Elmwood Park, NJ; Applied Science and Technology Research Organization of America, Bethesda, MD; Bowden Manufacturing Corp., Willoughby, OH; Caesar Creek Software, Miamisburg, OH; Cahaba Federal Solutions, Huntsville, AL; Cambium Biomaterials, Mojave, CA; D. Wheatley Enterprises, Inc. (DWE), Belcamp, MD; Decision Engineering Corp., Freehold, NJ; Discovery Machine, Inc., Williamsport, PA; Edge Case Research, Pittsburgh, PA; Friedman Research Corp., Austin, TX; GN Aerospace GTC, LLC, Fort Worth, TX; GoHypersonic Inc., Dayton, OH; Hermeus Corp., Atlanta, GA; In Space LLC, Lafayette, IN; L3 Harris Forecex, Nashville, TN; L3 Harris Technologies Integrated Systems LP dba L3 Harris Aeromet, Tulsa, OK; Lacamas Laboratories, Inc., Portland, OR; Millennitek, Knoxville, TN; Modular Genetics, Inc., Lincoln, MA; Multiverse US, Inc., New York, NY; Nautical Structures Industries, Inc., Largo, FL; NCD Technologies, Madison, WI; Odyssey Systems Consulting Group, Wakefield, MA; Ombra, Tampa, FL; Omni Federal, Gainesville, VA; OMP Logistics Corporation, Paramus, NJ; Pratt & Miller Engineering & Fabrication LLC, New Hudson, MI; Precision Products, Inc., Dalton, GA; Radial Solutions, Inc. (RSI), Huntsville, AL; R-DEX Systems, Woodstock, GA; Shifts, Inc., Rosslyn, VA; Sierra Technical Services, Inc., Tehachapi, CA; SIXGEN, LLC, Annapolis, MD; SMI Solutions, Inc., Huntington, WV; Sroka Inc., Strongsville, OH; The Will-Burt Company, Orrville, OH; University of Dayton, Dayton, OH; Wegmann USA, Inc., Lynchburg, VA; Wiggins Lift Co, Inc., Oxnard, CA; WMD Tech LLC, Boise, ID; Woodlawn Manufacturing, Marshall, TX; and Zeus Research and Technology, Inc., Huntsville, AL, have been added as parties to this venture.

Also, 50 BMG Supply LLC, Canton, OH; ADA Technologies, Inc., Littleton, CO; Advanced American Technologies LLC, Oak Ridge, TN; Aerobotix, Inc., Madison, AL; Aery Aviation LLC, Newport News, VA; Agile Global Solutions LLC, Denver, NC; AI.Reverie, Inc., New York, NY; AirBorn Interconnect, Inc., Georgetown, TX; Alion Science and Technology Corp., McLean, VA; All Foam Products Company, Middlefield, OH; American Defense International, Washington, DC; American Rheinmetall Vehicles LLC, Sterling Heights, MI; American Warrior Enterprises, Inc., Sioux Falls, SD; Analyst Warehouse LLC, Hanover, MD; Arizona State University Research Enterprise, Scottsdale, AZ; Asymmetric Technologies LLC, Columbus, OH; ATI Flowform Products LLC, Billerica, MA; Avionic Instruments LLC, Avenel, NJ; Boeing Company—AZ, Mesa, AZ; Boston Materials, Inc., Billerica, MA; C-2 Innovations, Inc., Stow, MA; Caelum Innovations LLC, Raleigh, NC; Cambrian Works, Inc., Fairfax, VA; Carbon-Carbon Advanced Technologies, Inc., Arlington, TX; Chenega Defense & Aerospace Solutions LLC, Huntsville, AL; Choctaw Defense Manufacturing LLC, McAlester, OK; Cobham Mission Systems Orchard Park, Inc., Orchard Park, NY; Cohere Solutions LLC, Reston, VA; Converged Security Solutions LLC, Reston, VA; Cova Strategies LLC, Albuquerque, NM; Custom Analytical Engineering Systems, Inc., Flintstone, MD; Cutting Edge Machining Solutions, Inc., Drifting, PA; Davis Defense Group, Inc., Stafford, VA; Decisive Analytics Corp., Arlington, VA; DELTA Resources, Inc., Alexandria, VA; DESAPRO, Inc., Rockledge, FL; DRS Network & Imaging Systems LLC—Dallas, Dallas, TX; DRS Power Technology, Inc., Fitchburg, MA; E&G Associates, Inc., Chattanooga, TN; Engility Corp., Andover, MA; Exyn Technologies, Inc., Philadelphia, PA; Fairbanks Morse LLC, Beloit, WI; Falcon Dancer, Inc., Huntsville, AL; Fiore Industries, Inc., Albuquerque, NM; FLIR Unmanned Ground Systems, Inc., Chelmsford, MA; GE Energy Power Conversion Naval Systems, Inc., Cranberry Township, PA; Geissele Automatics LLC, North Wales, PA; General Technology Systems LLC, Boston, MA; Harris Corp.—Space and Intelligence Systems, Rochester, NY; Heron Systems, Inc., California, MD; Hydracore, Inc., Metuchen, NJ; ICAMR, Inc. dba BRIDG, Kissimmee, FL; IMSAR LLC, Springville, UT; Interlog Corp., Anaheim, CA; IOMAX USA, Inc., Mooresville, NC; Jasper Solutions, Inc., Huntington Station, NY; Kearfott Corp., Little Falls, NJ; L-3 Communications Cincinnati Electronics Corp., Mason, OH; L3 Technologies, Inc. Advanced Laser Systems Technology Division, Orlando, FL; Lacamas Laboratories, Inc., Portland, OR; Light Steering Technologies, Inc., Manchester, NH; Lightspeed Technologies, Inc. dba LP3, Fairfax, VA; LMD Power of Light Corp., Rochester, NY; LSINC Corp., Huntsville, AL; M.S.M. Industries, Inc., Riverside, CA; Mad Minute LLC, Detroit, MI; Marine Electric Systems, Inc., South Hackensack, NJ; Maxim Defense Industries LLC, St. Cloud, MN; Maxtek Components Corp., Beaverton, OR; Michael R. Limotta & Co., Inc. dba Proximai.com, Solvang, CA; Micor Industries LLC, Decatur, AL; Microwave Applications Group, Santa Maria, CA; MilDef, Inc., Brea, CA; Millennium Corp., Arlington, VA; Mixed Signal Integration, San Jose, CA; Mobile Virtual Player, Lincoln, MA; Mustang Vacuum Systems, Inc., Sarasota, FL; N2 Imaging Systems LLC, Irvine, CA; Navitas Systems, Ann Arbor, MI; Navus Automation, Inc., Knoxville, TN; nLIGHT, Inc., Vancouver, WA; nVision Technology, Inc., Norton, OH; Onodi Tool & Engineering, Melvindale, MI; On-Point Defense Technologies LLC, Fort Walton Beach, FL; Optimum Parts Company, Inc., Agawam, MA; Parker-Hannifin Corp., Mayfield Heights, OH; Perspecta Engineering, Inc., Chantilly, VA; Phantom Products, Inc., Rockledge, FL; Phase Electronics, Inc., Rockville, MD; Phase IV Engineering, Inc., Boulder, CO; Phygen Coating, Inc., Minneapolis, MN; Pictorvision, Inc., Simi Valley, CA; Plansee USA LLC, Franklin, MA; PolyK Technologies LLC, State College, PA; Power Paragon, Inc., Anaheim, CA; Precision Products, Inc., Dalton, GA; Probus Test Systems, Inc., Lincroft, NJ; PS2 LLC, Waretown, NJ; Quantum Dimension, Inc., Huntington Beach, CA; Quantum Information Extraction, Inc., Huntsville, AL; Quantum Ventura, Inc., San Jose, CA; Radical Firearms LLC, Stafford, TX; Ravyn Technology Corp., El Segundo, CA; Rayn Innovations LLC, Tempe, AZ; Rescue Rover LLC dba AlphaBravo, Gaithersburg, MD; Richter Precision, Inc., East Petersburg, PA; Sabre Global Services, Wharton, NJ; Scaled Power, Inc., San Francisco, CA; SCI Technology, Inc., Huntsville, AL; Science, Engineering, Management Solutions LLC, Albuquerque, NM; Sentenai, Inc., Cambridge, MA; Sierra Nevada Corp., Sparks, NV; SimVentions, Inc., Fredericksburg, VA; Southern Innovative Investments LLC, Montgomery, AL; Space Information Laboratories LLC, Santa Maria, CA; Spear Research LLC, Nashua, NH; Spectre Enterprises, Inc., West Palm Beach, FL; Stevens Engineering Solutions LLC, Short Hills, NJ; Stryke Industries LLC, Warsaw, IN; STS Technologies LLC, Mahwah, NJ; Tangram Flex, Inc., Dayton, OH; Targeted GeoSystems LLC, Madison, AL; Taylor Devices, Inc., North Tonawanda, NY; Tech Wizards, Inc., Newburg, MD; Tech62, Inc., Fairfax, VA; Technology and Communications Systems, Inc., Clearwater, FL; Technology Assessment and Transfer, Inc., Annapolis, MD; TeleCommunication Systems, Inc., Annapolis, MD; Teledyne Scientific & Imaging LLC, Thousand Oaks, CA; Trident LLC, Odenton, MD; Trion Coatings LLC, South Bend, IN; Trusted Science and Technology, Inc., Bethesda, MD; TSH X3 LLC, Annapolis, MD; Universal Propulsion Company, Inc., Fairfield, CA; Universal Technology Professional LLC, Laurel, MD; University of Hartford, West Hartford, CT; University of Pittsburgh, Pittsburgh, PA; University of South Carolina, Columbia, SC; Vega Technology Group LLC, North Canton, OH; Veloxint Corp., Framingham, MA; VetAble Technologies LLC, Brandon, FL; ViaSat, Inc., Tempe, AZ; Vidrovr, Inc., New York, NY; Wavefront Vision, Inc., Basking Ridge, NJ; Wilcox Industries Corp., Newington, NH; Wilder Systems LLC, Austin, TX; Wireless Technology Associates, Inc., Setauket, NY; Wittenstein Motion Control, Inc., Bartlett, IL; and ZedaSoft, Inc., Fort Worth, TX, have withdrawn as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on January 10, 2024. A notice was published in the Federal Register pursuant to section 6(b) of the Act on March 13, 2024 (89 FR 18441).

Suzanne Morris,
Deputy Director Civil Enforcement Operations, Antitrust Division.

[FR Doc. 2024-20742 Filed 9-11-24; 8:45 am]

BILLING CODE P